DEPARTMENT OF HEALTH AND HUMAN SERVICES

National Institutes of Health

National Institute of Neurological Disorders and Stroke, Interagency Pain Research Coordinating Committee Call for Committee Membership Nominations

AGENCY: National Institutes of Health, HHS.

ACTION: Notice.

SUMMARY: The Department of Health and Human Services (HHS) (Department) has created the Interagency Pain Research Coordinating Committee (IPRCC) and is seeking nominations for this committee.

DATES: Nominations are due by 5 p.m. on January 25, 2019.

ADDRESSES: Nominations must be submitted through the webform on the IPRCC website: https://iprcc.nih.gov/About/Membership-Agency-Representation/Nomination-Form.

FOR FURTHER INFORMATION CONTACT: Linda Porter at 301-451-4460 or email at porterl@ninds.nih.gov.

SUPPLEMENTARY INFORMATION: As specified in Public Law 111-148 (“Patient Protection and Affordable Care Act”) and amended in H.R. 6, (“Support for Patients and Communities Act”) the Committee will:

(A) Develop a summary of advances in pain care research supported or conducted by the Federal agencies relevant to the diagnosis, prevention, treatment, and management of pain and diseases and disorders associated with pain, including information on best practices for the utilization of non-pharmacologic treatments, non-addictive medical products, and other drugs or devices approved or cleared by the Food and Drug Administration;

(B) identify critical gaps in basic and clinical research on

(i) the symptoms and causes of pain, including the identification of relevant biomarkers and screening models and the epidemiology of acute and chronic pain;

(ii) the diagnosis, prevention, treatment, and management of acute and chronic pain, including with respect to non-pharmacologic treatments, non-addictive medical products, and other drugs or devices approved or cleared by the Food and Drug Administration; and

(iii) risk factors for, and early warning signs of, substance use disorders in populations with acute and chronic pain;

(C) make recommendations to the Director of NIH

(i) to ensure that the activities of the National Institutes of Health and other Federal agencies are free of unnecessary duplication of effort;

(ii) on how best to disseminate information on pain care and epidemiological data related to acute and chronic pain; and

(iii) on how to expand partnerships between public entities and private entities to expand collaborative, cross-cutting research.

Membership on the committee will include six (6) non-Federal members from among scientists, physicians, and other health professionals and six (6) non-Federal members of the general public who are representatives of leading research, advocacy, and service organizations for individuals with pain-related conditions. Members will serve overlapping three year terms. It is anticipated that the committee will meet at least once a year.

The Department strives to ensure that the membership of HHS Federal advisory committees is fairly balanced in terms of points of view represented and the committee's function. Every effort is made to ensure that the views of diverse ethnic and racial groups and people with disabilities are represented on HHS Federal advisory committees, and the Department therefore, encourages nominations of qualified candidates from these groups. The Department also encourages geographic diversity in the composition of the Committee. Appointment to this Committee shall be made without discrimination on the basis of age, race, ethnicity, gender, sexual orientation, disability, and cultural, religious, or socioeconomic status.

The Department is soliciting nominations for 5 non-federal members from among scientists, physicians, and other health professionals and for 3 non-federal members of the general public who represent a leading research, advocacy, or service organization for people with pain-related conditions. These candidates will be considered to fill positions opened through completion of current member terms. Nominations are due by 5 p.m. on January 25, 2019, using the IPRCC nomination webform: https://iprcc.nih.gov/About/Membership-Agency-Representation/Nomination-Form.

Dated: December 11, 2018.
Walter J. Koroshetz,
Director, National Institute of Neurological Disorders and Stroke, National Institutes of Health.

[FR Doc. 2018-27737 Filed 12-20-18; 8:45 am]

BILLING CODE 4140-01-P